FEDERAL RETIREMENT THRIFT INVESTMENT BOARD

Sunshine Act; Notice of Meeting

Time and Date: 9 a.m. (EST), November 20, 2006.

Place: 4th Floor Conference Room, 1250 H Street, NW., Washington, DC.

Status: Parts will be open to the public and parts closed to the public.

Matters to Be Considered:

Parts Open to the Public

1. Approval of the minutes of the October 16, 2006 Board member meeting.

2. Thrift Savings Plan activity report by the Executive Director.

3. Participant Survey Update.

4. Analysis of Investment Funds Report.

5. Pension Protection Act Report.

6. 2007 Board Meeting Changes.

7. DOL Audit Report.

8. GAO Review of FRTIB Report.

Parts Closed to the Public

9. Procurement

10. Security

Contact Person for More Information: Thomas J. Trabucco, Director, Office of External Affairs, (202) 942-1640.

Dated: November 6, 2006.
Thomas K. Emswiler,
Secretary to the Board, Federal Retirement Thrift Investment Board.

[FR Doc. 06-9142 Filed 11-6-06; 12:24 pm]

BILLING CODE 6760-01-P